DEPARTMENT OF AGRICULTURE

Rural Business-Cooperative Service

Biorefinery Assistance Program

AGENCY: Rural Business-Cooperative Service (RBS), (USDA).

ACTION: Notice of Funding Availability (NOFA); new application window.

SUMMARY: RBS is announcing a new application window to submit application for the Biorefinery Assistance Program under criteria established in the prior NOFA, which was published in this publication on November 20, 2008 (73 FR 70544). All loan guarantees will be made based upon the terms and conditions illustrated in the prior NOFA, which made available $75 million in budget authority. Not all of this budget authority has been awarded by the Agency. Therefore, the Agency is requesting additional applications in order to award the remaining Fiscal Year 2009 budget authority. There will only be one application window under this notice.

DATES: Applications for participating in this program must be received by June 1, 2010.

FOR FURTHER INFORMATION CONTACT: For further information on this payment program, please contact USDA, Rural Development-Energy Division, Program Branch, Attention: Repowering Assistance Program, 1400 Independence Avenue, SW., Stop 3225, Washington, DC 20250-3225. Telephone: 202-720-1400.

SUPPLEMENTARY INFORMATION: On November 20, 2008, RBS published a Notice of Funding Availability (NOFA) and Solicitation of Applications in the Federal Register announcing general policy and application procedures for the Biorefinery Assistance Program. This Notice is for a one-time application window for remaining FY 2009 funds. An application guide for this program is available to assist in developing applications (see http://www.rurdev.usda.gov/rbs/busp/baplg9003.htm).

Paperwork Reduction Act

In accordance with the Paperwork Reduction Act (PRA), the paperwork burden associated with this Notice of Funds Availability (NOFA) has been approved by the Office of Management and Budget (OMB) under OMB Control Number 0570-0055.

The PRA burden associated with the original Notice, published on November 20, 2008, was approved by OMB, with an opportunity to comment on the burden associated with the program. Since the publication of the original Notice, the Agency has not received a sufficient number of qualified applications to allocate all of the FY 2009 authorized funds. Therefore, the Agency is opening a new application window to accept additional applications for the remaining FY 2009 funds for this program.

Biorefineries seeking funding under this program have to submit applications that include specified information, certifications, and agreements. All of the forms, information, certifications, and agreements required to apply for this program under this Notice have been authorized under OMB Control Number 0570-0055. Applications and accompanying materials required under this Notice will be covered under OMB Control Number 0570-0055.

Nondiscrimination Statement

USDA prohibits discrimination in all its programs and activities on the basis of race, color, national origin, age, disability, and where applicable, sex, marital status, familial status, parental status, religion, sexual orientation, genetic information, political beliefs, reprisal, or because all or part of an individual's income is derived from any public assistance program. (Not all prohibited bases apply to all programs.) Persons with disabilities who require alternative means for communication of program information (Braille, large print, audiotape, etc.) should contact USDA's TARGET Center at (202) 720-2600 (voice and TDD). To file a complaint of discrimination, write to USDA, Director, Office of Civil Rights, 1400 Independence Avenue, SW., Washington, DC 20250-9410, or call (800) 795-3272 (voice), or (202) 720-6382 (TDD). “USDA is an equal opportunity provider, employer, and lender.”

Dated: March 8, 2010.
Judith A. Canales,
Administrator, Rural Business-Cooperative Service.

[FR Doc. 2010-5372 Filed 3-11-10; 8:45 am]

BILLING CODE 3410-XY-P